OVERSEAS PRIVATE INVESTMENT CORPORATION

Sunshine Act Cancellation Notice—OPIC's September 6, 2012 Annual Public Hearing

OPIC's Sunshine Act notice of its Annual Public Hearing was published in the Federal Register (Volume 77, Number 143, Page 43618) on July 25, 2012. No requests were received to provide testimony or submit written statements for the record; therefore, OPIC's Annual Public Hearing scheduled for 2 p.m., September 6, 2012 has been cancelled.

CONTACT PERSON FOR INFORMATION: Information on the hearing cancellation may be obtained from Connie M. Downs at (202) 336-8438, via facsimile at (202) 218-0136, or via email at Connie.Downs@opic.gov.

Dated: August 30, 2012.
Connie M. Downs,
OPIC Corporate Secretary.

[FR Doc. 2012-21795 Filed 8-30-12; 11:15 am]

BILLING CODE 3210-01-P